FEDERAL DEPOSIT INSURANCE CORPORATION

FDIC Advisory Committee on Banking Policy; Notice of Charter Renewal

AGENCY: Federal Deposit Insurance Corporation (FDIC).

ACTION: Notice of renewal of the FDIC Advisory Committee on Banking Policy.

SUMMARY: Pursuant to the provisions of the Federal Advisory Committee Act (“FACA”), 5 U.S.C. App. 2, and after consultation with the General Services Administration, the Chairman of the Federal Deposit Insurance Corporation has determined that the renewal of the FDIC Advisory Committee on Banking Policy (“the Committee”) is in the public interest in connection with the performance of duties imposed upon the FDIC by law. The Committee will continue to provide advice and recommendations on a broad range of issues relating to the FDIC's mission and activities, including, but not limited to: the delivery of services by the FDIC, its corporate infrastructure, and policy initiatives in the areas of deposit insurance, supervision of financial institutions, resolutions and management of failing and failed institutions, and other issues impacting the financial services industry. The structure and responsibilities of the Committee are unchanged from when it was originally established in March 2002. The Committee will continue to operate in accordance with the provisions of the Federal Advisory Committee Act.

FOR FURTHER INFORMATION CONTACT: Mr. Robert E. Feldman, Committee Management Officer of the FDIC, at (202) 898-3742.

Dated: February 12, 2004.
Federal Deposit Insurance Corporation.
Robert E. Feldman,
Committee Management Officer.

[FR Doc. E4-311 Filed 2-18-04; 8:45 am]

BILLING CODE 6714-01-P